DEPARTMENT OF HOMELAND SECURITY

Coast Guard

33 CFR Part 117

[CGD01-05-088]

Drawbridge Operation Regulations: Fort Point Channel, MA

AGENCY: Coast Guard, DHS.

ACTION: Notice of temporary deviation from regulations.

SUMMARY: The Commander, First Coast Guard District, has issued a temporary deviation from the drawbridge operation regulations for the Northern Avenue Bridge, mile 0.1, across Fort Point Channel at Boston, Massachusetts. A one-hour advance notice will be required for bridge openings from 7 a.m. to 11 p.m., September 15, 2005 through October 31, 2005, and from 7 a.m. to 3 p.m., November 1, 2005 through November 14, 2005. This temporary deviation is necessary to facilitate bridge maintenance repairs.

DATES: This deviation is effective from September 15, 2005 through November 14, 2005.

FOR FURTHER INFORMATION CONTACT: John McDonald, Project Officer, First Coast Guard District, at (617) 223-8364.

SUPPLEMENTARY INFORMATION: The Northern Avenue Bridge has a vertical clearance in the closed position of 7 feet at mean high water and 16 feet at mean low water. The existing drawbridge operation regulations are listed at 33 CFR 117.599.

The owner of the bridge, the City of Boston, requested a temporary deviation from the drawbridge operation regulations to facilitate replacement of the submarine power supply cable at the bridge. The old power supply cable failed and until it can be replaced the bridge must temporarily operate using an electrical generator.

Additional time is necessary for bridge openings as a result of the use of the temporary generator in order to start and adjust the generator voltage prior to opening the bridge. A one-hour advance notice is necessary to allow sufficient time for the bridge operator to open the bridge after a request is given.

Under this temporary deviation the Northern Avenue Bridge shall open on signal after a one-hour advance notice is given from 7 a.m. to 11 p.m., September 15, 2005 through October 31, 2005, and from 7 a.m. to 3 p.m., November 1, 2005 through November 14, 2005. From 11 p.m. to 7 a.m., September 15, 2005 through October 31, 2005, the bridge shall open on signal after a two-hour notice is given. From 3 p.m. to 7 a.m., November 1, 2005 through November 14, 2005, the bridge shall open on signal after a twenty-four hour notice is given.

Mariners may request bridge openings by calling the bridge operator on channel 13 or by telephone at (617) 635-7520.

This deviation from the operating regulations is authorized under 33 CFR 117.35(b), and will be performed with all due speed in order to return the bridge to normal operation as soon as possible.

Dated: September 15, 2005.
Gary Kassof,
Bridge Program Manager, First Coast Guard District.

[FR Doc. 05-19212 Filed 9-26-05; 8:45 am]

BILLING CODE 4910-15-P